CONSUMER PRODUCT SAFETY COMMISSION

16 CFR Ch. II

Semiannual Regulatory Agenda

AGENCY: U.S. Consumer Product Safety Commission.

ACTION: Semiannual regulatory agenda.

SUMMARY: In this document, the Commission publishes its semiannual regulatory flexibility agenda. In addition, this document includes an agenda of regulatory actions that the Commission expects to be under development or review by the agency during the next year. This document meets the requirements of the Regulatory Flexibility Act and Executive Order 12866.

DATES: The Commission welcomes comments on each subject area of the agenda, particularly from small businesses, small organizations, and other small entities. Written comments concerning the agenda should be received in the Office of the Secretary by June 22, 2014.

ADDRESSES: Comments on the regulatory flexibility agenda should be captioned, “Regulatory Flexibility Agenda,” and be emailed to: cpsc-os@cpsc.gov, or filed by fax to: 301 504-0127. Comments may also be mailed or delivered to the Office of the Secretary, U.S. Consumer Product Safety Commission, Room 820, 4330 East-West Highway, Bethesda, MD 20814-4408.

FOR FURTHER INFORMATION CONTACT: For further information on the agenda in general, contact Eileen Williams, Office of the General Counsel, U.S. Consumer Product Safety Commission, 4330 East-West Highway, Bethesda, MD 20814-4408; ewilliams@cpsc.gov. For further information regarding a particular item on the agenda, consult the individual listed in the column headed, “Contact,” for that particular item.

SUPPLEMENTARY INFORMATION: The Regulatory Flexibility Act (RFA) (5 U.S.C. 601 to 612) contains several provisions intended to reduce unnecessary and disproportionate regulatory requirements on small businesses, small governmental organizations, and other small entities. Section 602 of the RFA (5 U.S.C. 602) requires each agency to publish, twice each year, a regulatory flexibility agenda containing a brief description of the subject area of any rule expected to be proposed or promulgated, which is likely to have a significant economic impact on a substantial number of small entities. The agency must also provide a summary of the nature of the rule and a schedule for acting on each rule for which the agency has issued a notice of proposed rulemaking.

The regulatory flexibility agenda is also required to contain the name and address of the agency official knowledgeable about the items listed. Furthermore, agencies are required to provide notice of their agendas to small entities and to solicit comments from small entities by direct notification or by inclusion in publications likely to be obtained by such entities.

Additionally, Executive Order 12866 requires each agency to publish, twice each year, a regulatory agenda of regulations under development or review during the next year. The executive order states that such an agenda may be combined with the agenda published in accordance with the RFA. The regulatory flexibility agenda lists the regulatory activities expected to be under development or review during the next 12 months. It includes all such activities, whether or not the activities may have a significant economic impact on a substantial number of small entities. This agenda also includes regulatory activities that appeared in the fall 2013 agenda and have been completed by the Commission before publication of this agenda. Although CPSC, as an independent regulatory agency, is not required to comply with Executive Orders, the Commission does follow Executive Order 12866 with respect to the publication of its regulatory agenda.

The agenda contains a brief description and summary of each regulatory activity, including the objectives and legal basis for each; an approximate schedule of target dates, subject to revision, for the development or completion of each activity; and the name and telephone number of a knowledgeable agency official concerning particular items on the agenda.

Beginning in fall 2007, the Internet became the basic means of disseminating the Unified Agenda (the compilation of the Commission's and other federal agencies' agendas). The complete Unified Agenda will be available online at: www.reginfo.gov, in a format that offers users a greatly enhanced ability to obtain information from the Unified Agenda database.

Because publication in the Federal Register is mandated for the regulatory flexibility agendas required by the Regulatory Flexibility Act (5 U.S.C. 602), the Commission's Federal Register agenda entries include only:

(1) Rules that are in the agency's regulatory flexibility agenda, in accordance with the Regulatory Flexibility Act because these rules are likely to have a significant economic impact on a substantial number of small entities; and

(2) Rules that the agency has identified for periodic review under section 610 of the Regulatory Flexibility Act.

The Federal Register entries are limited to fields that contain information required by the Regulatory Flexibility Act's agenda requirements. Additional information on these entries is available in the Unified Agenda published on the Internet.

Dated: February 28, 2014.
Todd A. Stevenson,
Secretary, U.S. Consumer Product Safety Commission.

Consumer Product Safety Commission—Completed Actions
Sequence No. | Title | Regulation Identifier No.
285 | Standard for Bedside Sleepers | 3041-AC91
286 | Standard for Soft Infant and Toddler Carriers | 3041-AD15
287 | Standard for Handheld Infant Carriers | 3041-AD16
288 | Standard for Carriages and Strollers | 3041-AD17

CONSUMER PRODUCT SAFETY COMMISSION (CPSC)

Completed Actions

285. Standard for Bedside Sleepers

Legal Authority: Pub. L. 110-314, sec 104

Abstract: Section 104 of the Consumer Product Safety Improvement Act of 2008 (CPSIA) requires the Commission to issue consumer product safety standards for durable infant or toddler products. The Commission is directed to assess the effectiveness of applicable voluntary standards, and in accordance with the Administrative Procedure Act, promulgate consumer product safety standards that are substantially the same as the voluntary standard or more stringent than the voluntary standard if the Commission determines that more stringent standards would further reduce the risk of injury associated with the product. The CPSIA requires that not later than August 14, 2009, the Commission begin rulemaking for at least two categories of durable infant or toddler products and promulgate two such standards every 6 months thereafter. The Commission published a notice of proposed rulemaking (NPRM) on December 10, 2012, for bedside sleepers as part of this series of standards for durable infant and toddler products. The proposed standard is based on ASTM F2906-12, Standard Consumer Product Safety Specification for Bedside Sleepers, with additions. The comment period ended on February 25, 2013. Staff reviewed comments and sent to the Commission a briefing package on the final rule on December 4, 2013. The Commission voted unanimously (3-0) to approve publication of the notice in the Federal Register issuing a final rule for bedside sleepers. The effective date of the final rule is July 15, 2014.

Timetable:

Action | Date | FR Cite
Staff Sends Briefing Package to Commission | 10/17/12 |
Commission Decision | 11/28/12 |
NPRM | 12/10/12 | 77 FR 73345
NPRM Comment Period End | 02/25/13 |
Staff Sends Final Rule Briefing Package to the Commission | 12/04/13 |
Commission Decision | 01/08/14 |
Final Rule | 01/15/14 | 79 FR 2581
Final Rule Effective | 07/15/14 |

Regulatory Flexibility Analysis Required: Yes.

Agency Contact: Douglas A. Lee, Project Manager, Consumer Product Safety Commission, Directorate for Engineering Sciences, 5 Research Place, Rockville, MD 20850, Phone: 301 987-2073, Email: dlee@cpsc.gov.

RIN: 3041-AC91

286. Standard for Soft Infant and Toddler Carriers

Legal Authority: Pub. L. 110-314, sec 104

Abstract: Section 104 of the Consumer Product Safety Improvement Act of 2008 (CPSIA) requires the Commission to issue consumer product safety standards for durable infant or toddler products. The Commission is directed to assess the effectiveness of applicable voluntary standards, and in accordance with the Administrative Procedure Act, promulgate consumer product safety standards that are substantially the same as the voluntary standard or more stringent than the voluntary standard if the Commission determines that more stringent standards would further reduce the risk of injury associated with the product. The CPSIA requires that not later than August 14, 2009, the Commission begin rulemaking for at least two categories of durable infant or toddler products and promulgate two such standards every 6 months thereafter. The Commission proposed a consumer product safety standard for soft infant and toddler carriers as part of this series of standards for durable infant and toddler products. Staff sent a briefing package with a draft notice of proposed rulemaking (NPRM) to the Commission on March 13, 2013. The Commission voted 2-1 to approve publication in the Federal Register. The comment period ended on June 19, 2013. Staff sent to the Commission for consideration a briefing package with a draft final rule on February 19, 2014. The Commission approved publication of the final rule on March 21, 2014. The final rule was published on March 28, 2014.

Timetable:

Action | Date | FR Cite
Staff Sends Briefing Package to Commission | 03/13/13 |
Commission Decision | 03/27/13 |
NPRM | 04/05/13 | 78 FR 20511
NPRM Comment Period End | 06/19/13 |
Staff Sends Final Rule Briefing Package to Commission | 02/19/14 |
Commission Decision | 03/21/14 |
Final Rule | 03/28/14 | 79 FR 17422
Final Rule Effective | 09/29/14 |

Regulatory Flexibility Analysis Required: Yes.

Agency Contact: Vincent Amodeo, Project Manager, Consumer Product Safety Commission, Directorate for Engineering Sciences, 5 Research Place, Rockville, MD 20850, Phone: 301 504-7570, Email: vamodeo@cpsc.gov.

RIN: 3041-AD15

287. Standard for Handheld Infant Carriers

Legal Authority: Pub. L. 110-314, sec 104

Abstract: Section 104 of the Consumer Product Safety Improvement Act of 2008 (CPSIA) requires the Commission to issue consumer product safety standards for durable infant or toddler products. The Commission is directed to assess the effectiveness of applicable voluntary standards, and in accordance with the Administrative Procedure Act, promulgate consumer product safety standards that are substantially the same as the voluntary standard or more stringent than the voluntary standard if the Commission determines that more stringent standards would further reduce the risk of injury associated with the product. The CPSIA requires that not later than August 14, 2009, the Commission begin rulemaking for at least two categories of durable infant or toddler products and promulgate two such standards every 6 months thereafter. The Commission proposed a consumer product safety standard for handheld infant carriers as part of this series of standards for durable infant and toddler products. Staff sent a briefing package with a draft notice of proposed rulemaking (NPRM) to the Commission on November 8, 2012. The Commission voted unanimously to approve publication in the Federal Register of the amended NPRM for the safety standard for handheld infant carriers. The comment period ended on February 25, 2013. Staff reviewed the comments and sent to the Commission a final rule briefing package with a recommendation to incorporate by reference ASTM F2050-13a, “Standard Consumer Safety Specification for Hand-Held Infant Carriers.” The Commission approved publication of the draft final rule on November 22, 2013. The effective date of the final rule is June 6, 2014.

Timetable:

Action | Date | FR Cite
Staff Sends Briefing Package to Commission | 11/08/12 |
Commission Decision | 11/28/12 |
NPRM | 12/10/12 | 77 FR 73354
NPRM Comment Period End | 02/25/13 |
Staff Sends Final Rule Briefing Package to Commission | 10/30/13 |
Commission Decision | 11/22/13 |
Final Rule | 12/06/13 | 78 FR 73415

Regulatory Flexibility Analysis Required: Yes.

Agency Contact: Patricia L. Edwards, Project Manager, Consumer Product Safety Commission, Directorate for Engineering Sciences, 5 Research Place, Rockville, MD 20850, Phone: 301 987-2224, Email: pedwards@cpsc.gov.

RIN: 3041-AD16

288. Standard for Carriages and Strollers

Legal Authority: Pub. L. 110-314, sec 104

Abstract: Section 104 of the Consumer Product Safety Improvement Act of 2008 (CPSIA) requires the Commission to issue consumer product safety standards for durable infant or toddler products. The Commission is directed to assess the effectiveness of applicable voluntary standards and, in accordance with the Administrative Procedure Act, promulgate consumer product safety standards that are substantially the same as the voluntary standard or more stringent than the voluntary standard if the Commission determines that more stringent standards would further reduce the risk of injury associated with the product. The CPSIA requires that not later than August 14, 2009, the Commission begin rulemaking for at least two categories of durable infant or toddler products and promulgate two such standards every 6 months thereafter. The Commission proposed a consumer product safety standard for carriages and strollers as part of this series of standards for durable infant and toddler products. Staff sent a briefing package with a draft notice of proposed rulemaking (NPRM) to the Commission for consideration on April 17, 2013. The Commission voted unanimously on May 8, 2013, to approve publication in the Federal Register of the draft proposed rule, with changes. The comment period ended on August 5, 2013. Staff reviewed the comments and sent to the Commission a final rule briefing package with a recommendation to incorporate the ASTM F833-13b, “Standard Consumer Safety Performance Specification for Carriages and Strollers,” with one modification. On March 3, 2014, the Commission voted to approve publication of the final rule. The final rule was published on March 10, 2014.

Timetable:

Action | Date | FR Cite
Staff Sends Briefing Package to Commission | 04/17/13 |
Commission Decision | 05/08/13 |
NPRM | 05/20/13 | 78 FR 29279
NPRM Comment Period End | 08/05/13 |
Staff Sends Briefing Package to Commission | 01/22/14 |
Commission Decision | 03/04/14 |
Final Rule | 03/10/14 | 79 FR 13208
Final Rule Effective | 09/10/15 |

Regulatory Flexibility Analysis Required: Yes.

Agency Contact: Rana Balci-Sinha, Project Manager, Consumer Product Safety Commission, 5 Research Place, Rockville, MD 20850, Phone: 301 987-2584, Email: rbalcisinha@cpsc.gov.

RIN: 3041-AD17

[FR Doc. 2014-13136 Filed 6-12-14; 8:45 am]

BILLING CODE 6355-01-P